DEPARTMENT OF TRANSPORTATION

Office of the Secretary

Transportation Labor-Management Board Meeting

AGENCY: Department of Transportation, Office of the Secretary.

ACTION: Notice of meeting.

SUMMARY: The U.S. Department of Transportation (DOT) announces a meeting of the Transportation Labor-Management Board (Board). Notice of the meeting is required under the Federal Advisory Committee Act.

Time and Place: The Board will meet on Friday, April 30, 2004, at 10 a.m., at the U.S. Department of Transportation, Nassif Building, room 3246a, 400 Seventh Street, SW., Washington, DC 20590. The room is located on the 3rd floor.

Type of Meeting: The meeting is open to the public. Please note that visitors without a government identification badge should enter the Nassif Building at the Southwest lobby, for clearance at the Visitor's Desk. Seating will be available on a first-come, first-served basis. Handicapped individuals wishing to attend should contact DOT to obtain appropriate accommodations.

Point of Contact: Stephen Gomez, Executive Secretary, Transportation Labor-Management Board, U.S. Department of Transportation, Nassif Building, 400 Seventh Street, SW., room 7411, Washington, DC 20590, (202) 366-9455 or 4088.

SUPPLEMENTARY INFORMATION: The Board will be briefed on DOT's personnel and payroll migration to the Department of Interior's Federal Personnel and Payroll System (FPPS), the DOT Learning Management System, the results of the DOT Labor Relations Climate Survey, and the administration of OPM's 2004 human capital survey.

Public Participation: We invite interested persons and organizations to submit comments. Mail or deliver your comments or recommendations to Stephen Gomez at the address shown above. Comments should be received by April 23, 2004, in order to be considered at the April 30th meeting.

Issued in Washington, DC, on April 7, 2004.
For the U.S. Department of Transportation.
Linda Moody,
Associate Director, Workforce Environment and Pay Division.

[FR Doc. 04-8501 Filed 4-14-04; 8:45 am]

BILLING CODE 4910-62-P